DEPARTMENT OF THE TREASURY

Office of Thrift Supervision

[AC-60: OTS Nos. H-4757, H-4519, and 17971]

Sunshine Financial, Inc., Tallahassee Florida; Approval of Conversion Application

Notice is hereby given that on February 11, 2011, the Office of Thrift Supervision approved the application of Sunshine Savings MHC, Tallahassee, Florida, the federal mutual holding company for Sunshine Savings Bank, Tallahassee, Florida, to convert to the stock form of organization. Copies of the application are available for inspection by appointment (phone number: 202-906-5922 or e-mail Public.Info@OTS.Treas.gov) at the Public Reading Room, 1700 G Street, NW., Washington, DC 20552, and the OTS Southeast Regional Office, 1475 Peachtree Street, NE., Atlanta, GA 30309.

Dated: February 15, 2011.
By the Office of Thrift Supervision.
Sandra E. Evans,
Federal Register Liaison.

[FR Doc. 2011-3901 Filed 2-22-11; 8:45 am]

BILLING CODE 6720-01-M